DEPARTMENT OF AGRICULTURE

Natural Resources Conservation Service

Notice of Meeting of the Agricultural Air Quality Task Force

AGENCY: Natural Resources Conservation Service, United States Department of Agriculture.

ACTION: Notice of meeting.

SUMMARY: The Agricultural Air Quality Task Force (AAQTF) will meet to continue discussions on air quality issues relating to agriculture. Additionally, the Livestock and Poultry Subcommittee of the AAQTF will conduct a pre-meeting Livestock and Poultry Air Emissions Standardization (LPAES) Workshop to discuss livestock and poultry air emissions monitoring data/research obtained from the National Animal Air Emissions Monitoring Study (NAAEMS).

DATES: The LPAES workshop will convene at 2 p.m. on Monday, September 27, 2010, and conclude at 6 p.m., and convene at 8 a.m. on Tuesday, September 28, 2010, and conclude at 5 p.m.

The AAQTF meeting will convene at 8 a.m. on Wednesday, September 29 and Thursday, September 30, and conclude at 5 p.m. each day. A public comment period for the AAQTF meeting will be held on September 30, 2010. Individuals making oral presentations should register in person at the AAQTF meeting site and must bring with them 50 copies of any materials they would like distributed.

ADDRESSES: The LPAES workshop will be held at the Hilton Raleigh-Durham Airport at Research Triangle Park Hotel located at 4810 Page Creek Lane, Durham, North Carolina 27703: (919) 941-6000.

The AAQTF meeting will be held on the campus of the U.S. Environmental Protection Agency Headquarters, Room C111 A-B-C, located at 109 TW Alexander Drive, Research Triangle Park, North Carolina 27711: (919) 541-5400.

FOR FURTHER INFORMATION CONTACT: Questions and comments should be directed to Jeff Schmidt, Acting Designated Federal Official. Mr. Schmidt may be contacted at Department of Agriculture, Natural Resources Conservation Service, 420 South State Road 7, Suite 160, Royal Palm Beach, Florida 33414; telephone: (561) 242-5520 x3748; e-mail: jeff.schmidt@fl.usda.gov.

SUPPLEMENTARY INFORMATION: Notice of this meeting is given under the Federal Advisory Committee Act, 5 U.S.C. App. 2. Additional information for the LPAES workshop and AAQTF meeting may be found on the World Wide Web at http://www.airquality.nrcs.usda.gov/AAQTF/. Please be advised RSVPs are recommended for the LPAES workshop.

Draft Agenda

2010 Livestock and Poultry Air Emissions Standardization Workshop

September 27-28, 2010

A. The Importance of Standardization.

B. Presentations and discussion on each principle—overview/recommendations.

(1) Prin. #1: Recommended units for reporting emissions for livestock and poultry.

(2) Prin. #2: Data collection to support the proper units of emissions reporting.

(3) Prin. #3: Methodologies and protocols for determining emissions from raw data.

(4) Prin. #4: Consistency in reporting mitigation practices.

C. EPA presentation: NAEMS data analysis, interpretation, and emissions estimating methodologies under consideration.

Draft Agenda

Meeting of the AAQTF

September 29-30, 2010

A. Welcome to Research Triangle Park/EPA.

B. Discussion of Minutes from Previous Meeting.

C. Discussion of Documents to be Approved by the End of the Meeting.

D. Preliminary Discussion of Recommendations for Standardization of Monitoring Data from National Animal Agricultural Emissions Monitoring Study (NAAEMS).

E. Scientific and Subcommittee Presentations.

(1) Agricultural Equipment Subcommittee Report.

(2) Air Quality Standards Subcommittee Report.

(3) Greenhouse Gases and Bioenergy Subcommittee Report.

(4) Livestock and Poultry Subcommittee Report.

(5) Reactive Nitrogen Subcommittee Report.

F. Department of Agriculture Update.

G. Environmental Protection Agency Update.

H. Discussion of Subcommittee Recommendations.

I. Next Meeting, Time, and Place.

* Please note that the timing of events in this agenda is subject to change to accommodate changing schedules of expected speakers.

Procedural

The LPAES workshop and AAQTF meeting are open to the public. At the discretion of the Chair, members of the public may give oral presentations during the AAQTF meeting. Those persons wishing to make oral presentations should register in person at the meeting site. Those wishing to distribute written materials at the AAQTF meeting (in conjunction with spoken comments) must bring 50 copies of the materials with them. Written materials for distribution to AAQTF members prior to the meeting must be received by Jeff Schmidt no later than Friday, September 10, 2010.

Information on Services for Individuals With Disabilities

For information on facilities or services for individuals with disabilities, or to request special assistance at the meeting, please contact Mr. Schmidt. The Department of Agriculture (USDA) prohibits discrimination in its programs and activities on the basis of race, color, national origin, gender, religion, age, sexual orientation, or disability. Additionally, discrimination on the basis of political beliefs and marital or family status is also prohibited by statutes enforced by USDA (not all prohibited bases apply to all programs). Persons with disabilities who require alternate means for communication of program information (Braille, large print, audio tape, etc.) should contact the USDA's Target Center at (202) 720-2000 (voice and TDD). USDA is an equal opportunity provider and employer.

Signed this 20th day of July, 2010 in Washington, DC.
Dave White,
Chief, Natural Resources Conservation Service.

[FR Doc. 2010-18452 Filed 7-27-10; 8:45 am]

BILLING CODE 3410-16-P